DEPARTMENT OF STATE

[Delegation of Authority No. 280-2]

Delegation by the Secretary of State to the Under Secretary for Political Affairs of Authorities Regarding Congressional Reporting

By virtue of the authority vested in the Secretary of State by the laws of the United States, including 22 U.S.C. 2651a, I hereby delegate to the Under Secretary of State for Political Affairs, to the extent authorized by law, the authority to approve submission of reports to the Congress.

This delegation covers the decision to submit to the Congress both one-time reports and recurring reports. However, this delegation shall not be construed to authorize the Under Secretary to make waivers, certifications, determinations, findings, or other such statutorily required substantive actions that may be called for in connection with the submission of a report. The Under Secretary shall be responsible for referring to the Secretary or the Deputy Secretary any matter on which action would appropriately be taken by such official.

Any authority covered by this delegation may also be exercised by the Deputy Secretary, to the extent authorized by law, or by the Secretary of State. This delegation does not repeal or amend any other delegation currently in effect.

This delegation of authority shall be published in the Federal Register.

Dated: May 17, 2018.
Michael R. Pompeo,
Secretary of State.

[FR Doc. 2018-12450 Filed 6-8-18; 8:45 am]

BILLING CODE 4710-10-P